CIVIL RIGHTS COMMISSION

Sunshine Act Meeting Notice

AGENCY: United States Commission on Civil Rights.

ACTION: Notice of Commission public business meeting.

DATES: Thursday, August 22, 2019, 10:30 a.m. EDT.

ADDRESSES: Meeting to take place by telephone.

FOR FURTHER INFORMATION CONTACT: Brian Walch: (202) 376-8371; TTY: (202) 376-8116; publicaffairs@usccr.gov.

SUPPLEMENTARY INFORMATION: This business meeting is open to the public by telephone only: 800-767-8973, Conference ID 203-7785. Persons with disabilities who need accommodation should contact Pamela Dunston at (202) 376-8105 or at access@usccr.gov at least seven (7) business days before the date of the meeting.

Meeting Agenda

I. Approval of Agenda

II. Business Meeting

A. Discussion and Vote on Commission's report, In the Name of Hate: Examining the Federal Government's Role in Responding to Hate Crimes

B. Discussion and vote on Chair for North Dakota State Advisory Committee

C. Discussion and vote on 2020 Business Meeting Calendar

D. Management and Operations

• Staff Director's Report

E. Meeting of the Commission's Subcommittee on condition of immigration detention centers and treatment of immigrants in detention

• Discussion and vote on Subcommittee's report to Commission

III. Adjourn Meeting

Dated: August 7, 2019.
Brian Walch,
Director, Communications and Public Engagement.

[FR Doc. 2019-17226 Filed 8-7-19; 4:15 pm]

BILLING CODE 6335-01-P